NATIONAL SCIENCE FOUNDATION

Agency Information Collection Activities: Comment Request

AGENCY: National Science Foundation.

ACTION: Notice; Submission for OMB Review; Comment Request.

SUMMARY: The National Science Foundation (NSF) has submitted the following information collection requirement to OMB for review and clearance under the Paperwork Reduction Act of 1995, Public Law 104-13. This is the second notice for public comment; the first was published in the Federal Register at 75 FR 14633, and four comments were received. NSF is forwarding the proposed renewal submission to the Office of Management and Budget (OMB) for clearance simultaneously with the publication of this second notice. The full submission may be found at: http://www.reginfo.gov/public/do/PRAMain. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs of OMB, Attention: Desk Officer for National Science Foundation, 725—17th Street, NW., Room 10235, Washington, DC 20503, and to Suzanne Plimpton, Reports Clearance Officer, National Science Foundation, 4201 Wilson Boulevard, Room 295, Arlington, VA 22230, or by e-mail to splimpton@nsf.gov. Comments regarding these information collections are best assured of having their full effect if received within 30 days of this notification. Copies of the submission(s) may be obtained by calling 703-292-7556.

NSF may not conduct or sponsor a collection of information unless the collection of information displays a currently valid OMB control number and the agency informs potential persons who are to respond to the collection of information that such persons are not required to respond to the collection of information unless it displays a currently valid OMB control number.

Under OMB regulations, the agency may continue to conduct or sponsor the collection of information while this submission is pending at OMB.

ADDRESSES: Submit written comments to Suzanne Plimpton, Reports Clearance Officer, National Science Foundation, 4201 Wilson Boulevard, Room 295, Arlington, VA 22230, or by e-mail to splimpton@nsf.gov.

FOR FURTHER INFORMATION CONTACT: Call or write, Suzanne Plimpton, Reports Clearance Officer, National Science Foundation, 4201 Wilson Boulevard, Room 295, Arlington, VA 22230, or by e-mail to splimpton@nsf.gov. Individuals who use a telecommunications device for the deaf (TDD) may call the Federal Information Relay Service (FIRS) at 1-800-877-8339 between 8 a.m. and 8 p.m., Eastern time, Monday through Friday.

SUPPLEMENTARY INFORMATION: An announcement of the NSF request for clearance was published in the Federal Register on Friday, March 26, 2010 (Volume 75, Number 58). NSF received four public comments in response to the announcement.

One comment came from Ms. Jean Public of Whitehouse Station, NJ who objected to the information collection. Ms. Public had no specific suggestions for altering the data collection plans other than to discontinue them entirely. Because the comment does not pertain to the collection of information on the required forms for which NSF is seeking OMB approval, NSF is proceeding with the clearance request.

Another comment came from Rachel Blanchard Carpenter at The Brookings Institution. She requested a copy of the HERD pilot test instrument and instructions which were provided to her.

A third comment came from Bob Mullen at the University of Maryland. He requested a copy of the FY 2010 survey instrument. Because the draft of the instrument was not ready at the time of his request, NSF provided a copy of the pilot questionnaire and told him the final 2010 questionnaire would be sent to all institutions later this summer once OMB clearance was obtained.

A final comment came from Tony DeCrappeo and David Kennedy with the Council on Governmental Relations (Attachment 5). They expressed general support for the survey and highlighted two issues for further consideration. The first point was a request for the NSF to carefully weigh the administrative burden of the additional survey items in evaluating the first year of the full rollout of the survey, and to be open to making additional changes should the burden prove too great. NSF has already taken into account the administrative burden expressed by the pilot institutions and eliminated four of the pilot test questions from the FY 2010 survey. NSF will continue to monitor institution concerns during the FY 2010 survey and make adjustments to the survey as necessary in subsequent years.

The second point was a request for more information regarding why the breakdown of institutional funds in Question 1 remains confidential. Confidentiality has been promised from the beginning of data collection for this sub-item in 1978 because many institutional respondents expressed hesitance at releasing information on the unreimbursed indirect costs and cost sharing portion of their R&D expenditures total. The main concerns were that (1) since many institutions do not “book” such expenses in their accounting systems, they were concerned about releasing such estimates that could not be tracked back on a project-by-project basis, and (2) the information would be used to justify lowering indirect cost reimbursement on grants, or to judge public institutions by how well they recovered indirect costs on R&D projects. Respondents felt that both uses would be inappropriate and misleading, because of the variety of types of projects and sponsors represented within the total. Because certain agencies cap their indirect cost reimbursement well below a normal institutional negotiated rate, some amount of unreimbursed costs is necessary and expected. NSF asked about retaining the confidentiality of these sub-items on the redesigned HERD survey during our recent site visits, cognitive testing, and during the pilot test. The majority of respondents preferred keeping the confidentiality for the reasons stated above.

Over the past three years as part of the major survey redesign project, NSF has conducted over 30 institution visits, 40 telephone debriefings at the conclusion of the FY 2009 pilot test, and has also held several workshops and panels with respondents and regular data users. These meetings provided a wealth of information on the impact of the survey's current and planned data requests upon academic respondents. Copies of the summary reports from these activities are available upon request.

Title of Collection: Higher Education Research and Development Survey

OMB Approval Number: 3145-0100

Abstract: The Survey of Research and Development Expenditures at Universities and Colleges originated in fiscal year (FY) 1954 and has been conducted annually since FY 1972. The survey is the academic research and development component of the NSF statistical program that seeks to provide a “central clearinghouse for the collection, interpretation, and analysis of data on the availability of, and the current and projected need for, scientific and technical resources in the United States, and to provide a source of information for policy formulation by other agencies of the federal government,” as mandated in the National Science Foundation Act of 1950. Since 2007, NSF has been working on a redesign and expansion of the survey to better reflect the current state of academic R&D. The redesigned survey was renamed the Higher Education R&D Survey and was pilot tested with a random sample of 40 institutions during the FY 2009 survey cycle. Beginning with the FY 2010 cycle, the redesigned survey will be administered to the full population of research-performing academic institutions.

Use of the Information: The proposed project will continue the annual survey cycle for three years. The FY 2010 Higher Education R&D Survey will be administered to an expected minimum of 760 institutions. A shorter version of the survey asking for R&D expenditures by source of funding and character of work (basic, applied, or development) will be administered to the 38 Federally Funded Research and Development Centers.

The Higher Education R&D Survey will provide continuity of statistics on R&D expenditures by source of funding and field of research, with separate data requested on current fund expenditures for research equipment by field. Further breakdowns are collected on funds passed through to subrecipients and funds received as a subrecipient, and on R&D expenditures by field from specific federal agency sources. New items on the survey include R&D expenditures funded from foreign sources, R&D within an institution's medical school, interdisciplinary R&D expenditures, and R&D expenditures by type of funding mechanism (contracts vs. grants) and cost category (salaries, equipment, software, etc.). Other new items request non-expenditure information such as headcounts of research personnel, counts of R&D proposals submitted, and counts and total dollar values of R&D awards.

Data are published in NSF's annual publication series Academic R&D Expenditures and are available electronically on the World Wide Web.

The survey is a fully automated web data collection effort and is handled primarily by administrators in university sponsored programs and accounting offices. To minimize burden, institutions are provided with an abundance of guidance and resources on the web, and are able to respond via a downloadable excel spreadsheet if desired. Each institution's record is pre-loaded with the 2 previous years of comparable data that facilitate editing and trend checking. Response to this voluntary survey has exceeded 95 percent each year, and response to the pilot test of the new survey is expected to be 100 percent.

The average burden report for the FY 2009 pilot test institutions was 66 hours, 21 hours of one-time programming and 45 hours of annual reporting burden.

Dated: July 6, 2010.
Suzanne H. Plimpton,
Reports Clearance Officer, National Science Foundation.

[FR Doc. 2010-16752 Filed 7-8-10; 8:45 am]

BILLING CODE 7555-01-P